DEPARTMENT OF AGRICULTURE

Grain Inspection, Packers and Stockyards Administration

[01-04-C]

Opportunity to Comment on the Applicants for the Central Iowa (IA) Area

AGENCY: Grain Inspection, Packers and Stockyards Administration (GIPSA), USDA.

ACTION: Notice.

SUMMARY: GIPSA requests comments on the applicants for designation to provide official services in the geographic area assigned to Central Iowa Grain Inspection Service, Inc.

DATES: Comments must be postmarked, or electronically date stamped by February 27, 2002.

ADDRESSES: Comments must be submitted in writing to USDA, GIPSA, Janet M. Hart, Chief, Review Branch, Compliance Division, STOP 3604, Room 1647-S, 1400 Independence Avenue, SW., Washington, DC 20250-3604. Telecopier (FAX) users may send comments to the automatic telecopier machine at 202-690-2755, attention: Janet M. Hart. Electronic mail users may send comments to: janhart@gipsadc.usda.gov. All comments received will be made available for public inspection at the above address located at 1400 Independence Avenue, SW., during regular business hours.

FOR FURTHER INFORMATION CONTACT: Janet M. Hart, at 202-720-8525.

SUPPLEMENTARY INFORMATION: This action has been reviewed and determined not to be a rule or regulation as defined in Executive Order 12866 and Departmental Regulation 1512-1; therefore, the Executive Order and Departmental Regulation do not apply to this action.

In the December 4, 2001, Federal Register (66 FR 63015), GIPSA asked persons interested in providing official services in the Central Iowa area to submit an application for designation by January 2, 2002. There were two applicants: Central Iowa Grain Inspection Service, Inc., and Kevin D. Bredthauer and Sandra M. Bredthauer, Des Moines, Iowa, proposing to do business as Central Iowa Grain Inspection Corporation. Central Iowa Grain Inspection Service, Inc., and Central Iowa Grain Inspection Corporation both applied for designation to provide official services in the entire area currently assigned to Central Iowa Grain Inspection Service, Inc.

GIPSA is publishing this notice to provide interested persons the opportunity to present comments concerning the applicants. Commenters are encouraged to submit reasons and pertinent data for support or objection to the designation of the applicants. All comments must be submitted to the Compliance Division at the above addresses. Comments and other available information will be considered in making a final decision. GIPSA will publish notice of the final decision in the Federal Register, and GIPSA will send the applicants written notification of the decision.

Authority: Pub. L. 94-582, 90 Stat. 2867, as amended (7 U.S.C. 71 et seq.).

Dated: January 14, 2002.
David R. Shipman,
Acting Administrator, Grain Inspection, Packers and Stockyards Administration.

[FR Doc. 02-2019 Filed 1-25-02; 8:45 am]

BILLING CODE 3410-EN-P